DEPARTMENT OF COMMERCE

National Oceanic and Atmospheric Administration

50 CFR Part 622

[I.D. 012405B]

Gulf of Mexico Fishery Management Council; Public Hearings

AGENCY: National Marine Fisheries Service (NMFS), National Oceanic and Atmospheric Administration (NOAA), Commerce.

ACTION: Public hearings; request for comments.

SUMMARY: The Gulf of Mexico Fishery Management Council (Council) will hold a series of public hearings to receive public comments on “Amendment Number 13 to the Fishery Management Plan for the Shrimp Fishery of the Gulf of Mexico, U.S. Waters with Environmental Assessment, Regulatory Impact Review, and Regulatory Flexibility Act Analysis.”

DATES: Written comments must be received by the Council on or before March 4, 2005. The meetings will be held in February 2005 (see SUPPLEMENTARY INFORMATION for specific dates and times).

ADDRESSES: The hearings will be held in Alabama, Florida, Louisiana, Mississippi, and Texas (see SUPPLEMENTARY INFORMATION for specific locations).

Comments may be submitted by any of the following methods:

• E-mail: gulfcouncil@gulfcouncil.org.

• Federal e-Rulemaking: http://www.regulations.gov.

• Mail: Gulf of Mexico Fishery Management Council, 3018 U.S. Highway 301, North, Suite 1000, Tampa, FL 33619.

Copies of Amendment 13 to the Shrimp FMP can be obtained from the Gulf of Mexico Fishery Management Council.

FOR FURTHER INFORMATION CONTACT: Richard Leard, Deputy Executive Director, Gulf of Mexico Fishery Management Council; telephone: (813) 228-2815.

SUPPLEMENTARY INFORMATION: The Gulf of Mexico Fishery Management Council (Council) will hold a series of public hearings to receive public comments on “Amendment Number 13 to the Fishery Management Plan for the Shrimp Fishery of the Gulf of Mexico, U.S. Waters with Environmental Assessment, Regulatory Impact Review, and Regulatory Flexibility Act Analysis.” Amendment 13 contains alternatives to (1) establish a separate vessel permit for the royal red shrimp fishery or an endorsement to the existing federal shrimp vessel permit (Action 1); (2) define MSY, OY, the overfishing threshold, and the overfished condition for royal red and penaeid shrimp stocks in the Gulf (Actions 2 through 7); (3) establish bycatch reporting methodologies and improve collection of shrimping effort data in the EEZ through the use of logbooks, electronic logbooks, and observers (Action 8); (4) require completion of a Gulf Shrimp Vessel and Gear Characterization Form by at least a subset of shrimp vessel permit holders (Action 9); (5) establish a moratorium on the issuance of commercial shrimp vessel permits (Action 10); and (6) require reporting and certification of landings during a moratorium (Action 11). For each action, a “No Action” alternative may also be considered. The Council is soliciting public comment on alternatives under each of these potential actions, and for other alternatives, that should be considered by the Council. The Council is soliciting public comment on these issues through the public hearings, by mail and by e-mail; and must be received by the Council on or before March 4, 2005.

The Gulf of Mexico Fishery Management Council is one of the eight regional fishery management councils that were established by the Magnuson-Stevens Fishery Conservation and Management Act of 1976. The Gulf of Mexico Fishery Management Council prepares fishery management plans that are designed to manage fishery resources in the Exclusive Economic Zone (EEZ) of the U.S. Gulf of Mexico.

Hearing Dates, Times, and Locations

The hearings will begin at 7 p.m. and end no later than 10 p.m. on the following dates and at the locations specified below:

Monday, February 14, 2005, Holiday Inn I-10, 5465 Highway 90 West, Mobile, AL 36619; 866-436-4329;

Tuesday, February 15, 2005, Mississippi Department of Marine Resources, 1141 Bayview Drive, Biloxi, MS 39530; 228-374-5000;

Tuesday, February 15, 2005, DoubleTree Grand Key Resort, 3990 South Roosevelt Boulevard, Key West, FL 33040; 888-310-1540;

Wednesday, February 16, 2005, LSU Agricultural Center Extension Office, 1105 West Port Street, Abbeville, LA 70510; 337-898-4335;

Thursday, February 17, 2005, Ramada Inn Houma, 1400 West Tunnel Boulevard, Houma, LA 70360; 985-879-4871;

Thursday, February 17, 2005, DoubleTree Guest Suites Tampa Bay, 3050 North Rocky Point Drive, Tampa, FL 33607; 813-888-8800;

Monday, February 21, 2005, Brownsville Events Center, 1 Events Center Boulevard, Brownsville, TX 78526; 956-554-0700;

Tuesday, February 22, 2005, Palacios Rec Center, 2401 Perryman, Palacios, TX 77465; 361-972-2387;

Wednesday, February 23, 2005, San Luis Resort, 5222 Seawall Boulevard, Galveston Island, TX 77651; 409-744-1500; and

Thursday, February 24, 2005, New Orleans Airport Ramada Inn & Suites, 110 James Drive East, St. Rose, LA 70087; 504-466-1355.

Special Accommodations

The hearings are open to the public and are physically accessible to people with disabilities. Requests for sign language interpretation or other auxiliary aids should be directed to Dawn Aring at the Council office (see ADDRESSES) by February 7, 2005.

Dated: January 27, 2005.
Alan D. Risenhoover,
Acting Director, Office of Sustainable Fisheries, National Marine Fisheries Service.

[FR Doc. 05-1800 Filed 1-31-05; 8:45 am]

BILLING CODE 3510-22-S